DEPARTMENT OF HEALTH AND HUMAN SERVICES

Administration for Children and Families

[OMB No. 0970-0476]

Submission for OMB Review; Generic Clearance for Disaster Information Collection Forms

AGENCY: Office of Human Services Emergency Preparedness and Response, Administration for Children and Families, HHS.

ACTION: Request for public comment.

SUMMARY: The Administration for Children and Families (ACF) is requesting a 3-year extension of the Generic Clearance for Disaster Information Collection Forms (OMB #0970-0476) and the five forms currently approved for ACF programs. There are no changes requested to the umbrella generic and no substantial changes to the currently approved forms.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The information collected through the forms approved under the Generic Clearance for Disaster Information Collection Forms is used to provide real-time updates during the response and recovery phases of a disaster. The same generic form has been tailored for each of the five following ACF offices or programs: The Children's Bureau, the Family Violence Prevention and Services Program, the Office of Child Care, the Office of Head Start, and the Runaway and Homeless Youth (RHY) Program. It is possible that more program offices may request approval of a tailored version in the future. The requested information is submitted by ACF grantees, which includes states and tribes.

Currently Approved Forms

Family and Youth Services Bureau, Family Violence Prevention and Services Program. This form collects information on post-disaster impacts and disaster recovery, including requests for assistance from state administrators, tribes/tribal organizations, state coalitions, or resource centers comprising the Domestic Violence Resource Network; shelters that have been evacuated due to damage; shelter residents being served in alternate locations; reports of an increase in requests for assistance; capacity shortfalls; and reported increase in domestic violence post-disaster.

Office of Child Care. The baseline information includes the number of licensed, regulated, and license-exempt child care providers in the state; the number of children who are served by the ACF Office of Child Care's Child Care and Development Fund (CCDF); emergency contact information for the CCDF administrator, the licensing contacts, and resource and referral agencies; interruptions in systems that facilitate contacting the child care providers; contact person for state recordkeeping systems; number of children served; and damage assessment plans of the licensing agency. The disaster impact information includes the number and type of child care providers closed, the number of closed providers that serve children who benefit from ACF CCDF, the number of children with CCDF subsidies affected by the closures, total child care capacity lost, whether the providers whose facilities have closed will be able to reopen, whether damaged facilities have been able to remain open, degree of disruption in services; state decision to implement temporary operating standards for child care providers; and requests for behavioral and mental health services for children, families, and staff. Post-disaster recovery questions include ability of child care providers to reopen, number of service slots lost due to closures, total number of child care providers that are open in the disaster impact zone; and staff shortages.

Family and Youth Services Bureau, Runaway and Homeless Youth Program. This form collects information on post-disaster impacts and disaster recovery, including requests from grantees for technical assistance; a safety and accountability report for children and youth in RHY programs; reports of damage to RHY facilities; and a report of any children or youth that have been relocated due to damages to facilities.

Children's Bureau. This form requests information on any disaster-caused disruptions of the child abuse/neglect reporting and investigation system; reports of unaccompanied children needing protection, identification, and reunification with legal caregivers; actions taken by the Child Welfare Agency; impacts to Chafee Foster Care Independence Program providers; accountability and safety report for youth receiving services; reports on any increase in the number of child abuse or neglect reports in the affected areas; impacts to Safe and Stable Families or Community Based Child Abuse Prevention providers; whether families receiving in-home services are being supported; displaced or temporarily relocated foster families; coordination of needed services and supervision by the Child Welfare Agency; new or increased interstate challenges; and compromised program records.

Office of Head Start. Number of Head Start (HS) centers and service slots located in the disaster impact zone; number of centers and available service slots open and number closed post-disaster; number of HS centers with undetermined status; general access to services for children and families in the impacted areas; disruptions in transportation; ability of families to receive care elsewhere; number of HS centers closed post-disaster and number of service slots lost; and other program service interruptions.

Respondents: ACF Grantees and State Administrators.

Annual Burden Estimates
Instrument | Number of respondents | Number of responses per respondent | Average burden hours per response | Annual burden hours
Children's Bureau Disaster Information Collection Form | 10 | 1 | 1 | 10
Family Violence Prevention and Services Program Disaster Information Collection Form | 10 | 1 | 1 | 10
Office of Child Care Disaster Information Collection Form | 7 | 1 | 2 | 14
Office of Head Start Disaster Information Collection Form | 10 | 1 | 2 | 20
Runaway and Homeless Youth Program Disaster Information Collection Form | 10 | 1 | 1 | 10
Future Program Office Disaster Information Collection Forms | 40 | 1 | 1.5 | 60

Estimated Total Annual Burden Hours: 124.

Authority: 42 U.S.C. 68 Disaster Relief; 42 U.S.C. Section 5121; Pub. L. 113-5.

Mary B. Jones,
ACF/OPRE Certifying Officer.

[FR Doc. 2022-10786 Filed 5-18-22; 8:45 am]

BILLING CODE 4182-01-P